DEPARTMENT OF ENERGY

Federal Energy Regulatory Commission

[Docket No. RP00-21-003]

CNG Transmission Corporation; Notice of Compliance Filing

May 10, 2000.

Take notice that on April 17, 2000, CNG Transmission Corporation (CNG) submitted a compliance filing and a request for modification of the schedule for submission of tariff sheets.

CNG states that its filing was in compliance with the Commission's “Order on Technical Conference” issued March 31, 2000 in Docket No. RP00-21-000 related to CNG's Rate Schedules DPO (Delivery Point Operator) and CSC (City Gas Swing Customer) program. CNG explained certain specific provisions of its Rate Schedule FTNN as requested in the Commission's order. CNG did not file revised tariff sheets in compliance with the order because, it explains, it has not yet determined whether it can go forward with the program as modified by the order. CNG proposes that it will file the requisite tariff sheets at least ten days in advance of the date that it proposes to more the sheets into effect.

CNG states that copies of the filing have been mailed to all parties set out on the official service list in Docket No. RP00-21.

Any person desiring to protest said filing should file a protest with the Federal Energy Regulatory Commission, 888 First Street, NE., Washington, DC 20426, in accordance with Section 385.211 of the Commission's Rules and Regulations. All such protests must be filed on or before May 17, 2000. Protests will be considered by Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-12228 Filed 5-15-00; 8:45 am]

BILLING CODE 6717-01-M